DEPARTMENT OF HOUSING AND URBAN DEVELOPMENT

[Docket No. FR-4972-N-01]

Notice of Proposed Information Collection: Comment, Request Relocation and Real Property Acquisition, Under the Uniform Relocation Assistance and Real Property Acquisition Policies Act of 1979

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: April 18, 2005.

ADDRESSES: Interested persons are invited to submit comments regarding this proposal. Comments should refer to the proposal by name and/or OMB Control Number and should be sent to: Sheila Jones, Reports Liaison Officer, Department of Housing Urban and Development, 451 7th Street, SW., Room 7232, Washington, DC 20410.

FOR FURTHER INFORMATION CONTACT: Joan Morgan, Director, Relocation and Real Estate Division, CGHR, Department of Housing and Urban Development, 451 Seventh Street, Southwest, Rm 7168, Washington DC 20410; e-mail Joan_Morgan@HUD.gov, (202) 708-0614. This is not a toll-free number. Copies of the proposed forms and other available documents submitted to OMB may be obtained from Ms. Morgan.

SUPPLEMENTARY INFORMATION: The Department is submitting the proposed information collection to OMB for review, as required by the Paperwork Reduction Act of 1995 (44 U.S.C. Chapter 35, as Amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information (3) Enhance the quality, utility, and clarity of the information to be collected; and (4) Minimize the burden of the collection of information on those who are to respond; including through the use of appropriate automated collection techniques or other forms of information technology, e.g., permitting electronic submission of responses.

This notice also list the following information:

Title of Proposal: Relocation and Real Property Acquisition, Recordkeeping Requirements under the Uniform Relocation Assistance and Real Property Acquisition Policies Act of 1970 (as amended).

OMB Control Number, if applicable: 2506-0121.

Description of the Need for the Information and proposed use: Agencies receiving HUD funding for projects involving relocation of owners or tenants displaced due to a project that includes rehabilitation, demolition, or acquisition of property are subject to the Uniform Relocation Assistance and Real Property Acquisition Policies Act of 1970 (URA). Agencies are required to document their compliance with the requirements of the URA and applicable implementing regulations. Revised government-wide URA regulations were published by the Department of Transportation on January 4, 2005 (effective February 3, 2005). Changes in these regulations which will impact on recordkeeping requirements are: Establishing a list of items to be include in interviews with displaced businesses (24.205(c)(2)(i)(A) thru (F)), prohibiting an agency from proposing or requesting that a displaced person waive rights or entitlements under the URA (24.207(f)), including the cost of professional home inspections in replacement housing payments for homeowners (24.401(e)(4)), and implementing the use of HUD low income limits to determine eligibility for URA benefits applicable to low income persons (24.402(b)(2)).

Agency form numbers, if applicable: None.

Estimation of the total numbers of hours needed to prepare the Information collection including number of respondents, frequency of response, and hours of response.

Status of the proposed information collection: Revision due to change in URA regulations.

Number of Respondents: 2000.

Frequency of Responses: 40.

Hours per Response: 3.5

Burden Hours: 280,000.

Change: 20,000.

Authority: The Paperwork Reduction Act of 1995, 44 U.S.C. Chapter 35, as amended.

Dated: February 9, 2005.
Nelson R. Bregon,
General Deputy Assistant, Secretary for Community Planning and Development.

[FR Doc. 05-2930 Filed 2-15-05; 8:45 am]

BILLING CODE 4210-29-M